SOCIAL SECURITY ADMINISTRATION

[Docket No. SSA-2022-0054]

Privacy Act of 1974; Matching Program

AGENCY: Social Security Administration (SSA).

ACTION: Notice of a new matching program.

SUMMARY: In accordance with the provisions of the Privacy Act, as amended, this notice announces a new matching program with the United States Department of Health and Human Services, Office of Child Support Enforcement (OCSE). Under this matching program, OCSE will disclose quarterly wage (QW) information to SSA to establish or verify eligibility, continuing entitlement, or payment amounts, or all of the above, of individuals under the title II Disability Insurance (DI) program of the Social Security Act (Act).

DATES: The deadline to submit comments on the proposed matching program is April 13, 2023. The matching program will be applicable on June 23, 2023, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2022-0054 so that we may associate your comments with the correct notice. Caution: You should be careful to include in your comments only information that you wish to make publicly available. We strongly urge you not to include in your comments any personal information, such as Social Security numbers or medical information.

1. Internet: We strongly recommend that you submit your comments via the internet. Please visit the Federal eRulemaking portal at https://www.regulations.gov. Use the Search function to find docket number SSA-2022-0054 and then submit your comments. The system will issue you a tracking number to confirm your submission. You will not be able to view your comment immediately because we must post each submission manually. It may take up to a week for your comments to be viewable.

2. Fax: Fax comments to (833) 410-1631.

3. Mail: Matthew Ramsey, Executive Director, Office of Privacy and Disclosure, Office of the General Counsel, Social Security Administration, G-401 WHR, 6401 Security Boulevard, Baltimore, MD 21235-6401, or emailing Matthew.Ramsey@ssa.gov. Comments are also available for public viewing on the Federal eRulemaking portal at https://www.regulations.gov or in person, during regular business hours, by arranging with the contact person identified below.

FOR FURTHER INFORMATION CONTACT: Interested parties may submit general questions about the matching program to Cynthia Scott, Division Director, Office of Privacy and Disclosure, Office of the General Counsel, Social Security Administration, G-401 WHR, 6401 Security Boulevard, Baltimore, MD 21235-6401, at telephone: (410) 966-1943, or send an email to Cynthia.Scott@ssa.gov.

SUPPLEMENTARY INFORMATION: None.

Matthew Ramsey,
Executive Director, Office of Privacy and Disclosure, Office of the General Counsel.

Participating Agencies

SSA and OCSE.

Authority for Conducting the Matching Program

This matching agreement between OCSE and SSA is executed pursuant to the Privacy Act of 1974, (5 U.S.C. 552a), as amended by the Computer Matching and Privacy Protection Act of 1988, and otherwise; and the Office of Management and Budget (OMB) Final Guidance interpreting those Acts.

Section 224(h)(1) of the Act provides that the head of any Federal agency shall provide information within its possession as the Commissioner of Social Security may require for purposes of making a timely determination of the amount of the reduction, if any, required by section 224 in benefits payable under title II of the Act. 42 U.S.C. 424a(h). Section 453(j)(4) authorizes OCSE to provide the Commissioner of Social Security with all information in the National Directory of New Hires (NDNH). 42 U.S.C. 653(j)(4). Disclosures under this agreement shall be made in accordance with 5 U.S.C. 552a(b)(3), under a routine use published in a systems of records notice as required by the Privacy Act, and in compliance with the matching procedures in 5 U.S.C. 552a(o), (p), and (r), which describes matching agreements, verification by agencies of information, the opportunity for individuals to contest agency findings, and the obligations of agencies to report proposals to establish or change matching programs to Congress and OMB.

Purpose(s)

This computer matching agreement, hereinafter “agreement,” governs a matching program between OCSE and SSA. The agreement covers the QW batch match for the DI program. This agreement also governs the use, treatment, and safeguarding of the QW information exchanged. OCSE is the “source agency” and SSA is the “recipient agency,” as defined by the Privacy Act. 5 U.S.C. 552a(a)(9) and (11).

The Privacy Act, as amended by the Computer Matching and Privacy Protection Act of 1988, provides that no record contained in a system of records may be disclosed for use in a computer matching program, except pursuant to a written agreement containing specified provisions. 5 U.S.C. 552a(o). SSA and OCSE are executing this agreement to comply with the Privacy Act of 1974, as amended, and the regulations and guidance promulgated thereunder. SSA and OCSE have entered into agreements and renewals for this match since November 5, 2015. See appendix A.

SSA will use the QW information to establish or verify eligibility, continuing entitlement, or payment amounts, or all of the above, of individuals under the DI program.

The SSA component responsible for this agreement and its contents is the Office of Privacy and Disclosure. The responsible component for OCSE is the Division of Federal Systems. This agreement is applicable to personnel, facilities, and information systems of SSA and OCSE involved in the processing and storage of NDNH information. Personnel are defined as employees, contractors, or agents of SSA and OCSE.

Categories of Individuals

The individuals whose information is involved in this matching program are individuals who are applicants or recipients of title II benefits.

Categories of Records

SSA will provide electronically to OCSE the following data elements in the finder file:

• Individual's Social Security number (SSN)

• Name (first, middle, last)

OCSE will disclose electronically to SSA the following data elements from the NDNH in the QW file:

• QW record identifier

• For employees:

(1) Name (first, middle, last)

(2) SSN

(3) Verification request code

(4) Processed date

(5) Non-verifiable indicator

(6) Wage amount

(7) Reporting period

• For employers of individuals in the QW file of the NDNH:

(1) Name (first, middle, last)

(2) Employer identification number

(3) Address(es)

• Transmitter agency code

• Transmitter state code

• State or agency name

System(s) of Records

SSA's relevant systems of records (SORs) are the Master Beneficiary Record (MBR), 60-0090, last fully published on January 11, 2006 at 71 Federal Register (FR) 1826, amended on December 10, 2007 at 72 FR 69723, on July 5, 2013 at 78 FR 40542, on July 3, 2018 at 83 FR 31250-31251, and last amended on November 1, 2018 at 83 FR 54969; the Completed Determination Record (CDR)-Continuing Disability Determinations (CDD) file, 60-0050, last fully published on January 11, 2006 at 71 FR 1813, amended on December 10, 2007 at 72 FR 69723, on November 1, 2018 at 83 FR 54969, and last amended on April 26, 2019 at 84 FR 17907.

OCSE will match SSA information in the MBR and CDR-CDD against the QW information maintained in the NDNH. The NDNH contains new hire, QW, and unemployment insurance information furnished by state and federal agencies and is maintained in the SOR “OCSE National Directory of New Hires,” System No. 09-80-0381, published in full at 87 FR 3553 (January 24, 2022). The disclosure of NDNH information by OCSE to SSA constitutes a “routine use,” as defined by the Privacy Act. 5 U.S.C. 552a(b)(3). Routine use (9) of the SOR authorizes the disclosure of NDNH records to SSA. 87 FR 3553, 3555 (January 24, 2022).

[FR Doc. 2023-05156 Filed 3-13-23; 8:45 am]

BILLING CODE 4191-02-P